DEPARTMENT OF COMMERCE

National Oceanic and Atmospheric Administration

RIN 0648-XD873

Endangered and Threatened Species; Take of Anadromous Fish

AGENCY: National Marine Fisheries Service (NMFS), National Oceanic and Atmospheric Administration (NOAA), Commerce.

ACTION: Application for one new scientific research permit.

SUMMARY: Notice is hereby given that NMFS has received a permit application request for a new scientific research permit. The proposed research is intended to increase knowledge of species listed under the Endangered Species Act (ESA) and to help guide management, conservation, and recovery efforts. The application may be viewed online at: https://apps.nmfs.noaa.gov/preview/preview_open_for_comment.cfm.

DATES: Comments or requests for a public hearing on the application must be received at the appropriate address or fax number (see ADDRESSES) no later than 5 p.m. Pacific standard time on May 8, 2015.

ADDRESSES: Written comments on the application should be submitted to the Protected Resources Division, NMFS, 777 Sonoma Avenue, Room 325, Santa Rosa, CA 95404. Comments may also be submitted via fax to 707-578-3435 or by email to nmfs.swr.apps@noaa.gov (include the permit number in the subject line of the fax or email).

FOR FURTHER INFORMATION CONTACT: Jeffrey Jahn, Santa Rosa, CA (ph.: 707-575-6097), Fax: 707-578-3435, email: Jeffrey.Jahn@noaa.gov). Permit application instructions are available from the address above, or online at https://apps.nmfs.noaa.gov.

SUPPLEMENTARY INFORMATION:

Species Covered in This Notice

The following listed species are covered in this notice:

Chinook salmon (Oncorhynchus tshawytscha): threatened Snake River spring/summer-run (SR spr/sum); threatened Lower Columbia River (LCR); threatened California Coastal (CC); threatened Central Valley spring-run (CVSR), endangered Sacramento River winter-run (SRWR).

Coho salmon (O. kisutch): threatened Southern Oregon/Northern California Coast (SONCC); endangered Central California Coast (CCC).

Steelhead (O. mykiss): threatened Northern California (NC); threatened Central California Coast (CCC), threatened California Central Valley (CCV).

Authority

Scientific research permits are issued in accordance with section 10(a)(1)(A) of the ESA (16 U.S.C. 1531 et seq.) and regulations governing listed fish and wildlife permits (50 CFR parts 222-227). NMFS issues permits based on findings that such permits: (1) Are applied for in good faith; (2) if granted and exercised, would not operate to the disadvantage of the listed species that are the subject of the permit; and (3) are consistent with the purposes and policy of section 2 of the ESA. The authority to take listed species is subject to conditions set forth in the permits.

Anyone requesting a hearing on an application listed in this notice should set out the specific reasons why a hearing on that application would be appropriate (see ADDRESSES). Such hearings are held at the discretion of the Assistant Administrator for Fisheries, NMFS.

Application Received

Permit 19320

The NMFS Southwest Fisheries Science Center (SWFSC), Fisheries Ecology Division (FED) is requesting a permit to annually take sub-adult and juvenile listed salmon and steelhead for a period of five years. The permit would authorize research designed to (1) determine the inter-annual and seasonal variability in growth, feeding, and energy status among juvenile salmonids in the coastal ocean off northern and central California; (2) determine migration paths and spatial distribution among genetically distinct salmonid stocks during their early ocean residence; (3) characterize the biological and physical oceanographic features associated with juvenile salmon ocean habitat from the shore to the continental shelf break; (4) identify potential links between coastal geography, oceanographic features, and salmon distribution patterns; and (5) identify and test ecological indices for salmon survival. This research would benefit listed fish by informing comprehensive lifecycle models that incorporate both freshwater and marine conditions and recognize the relationship between the two habitats; it would also identify and predict sources of salmon mortality at sea and thereby help managers develop indices of salmonid survival in the marine environment.

Listed fish would be captured primarily via surface trawling, however midwater trawling and beach seining would be used occasionally. Sub-adult salmonids (i.e., fish larger than 250 mm) that survive capture would have fin tissue and scale samples taken, and then be released. Any subadult salmonids that do not survive capture, and all juvenile salmonids (i.e., fish larger than 80 mm but less than 250 mm) would be lethally sampled (i.e., intentional directed mortality) in order to collect (1) otoliths for age and growth studies; (2) coded wire tags for origin and age of hatchery fish; (3) muscle tissue for stable isotopes and/or lipid assays; (4) stomachs and contents for diet studies; and (5) other tissues including the heart, liver, intestines, pyloric caeca, and kidney for special studies upon request.

This notice is provided pursuant to section 10(c) of the ESA. NMFS will evaluate the applications, associated documents, and comments submitted to determine whether the applications meet the requirements of section 10(a) of the ESA and Federal regulations. The final permit decisions will not be made until after the end of the 30-day comment period. NMFS will publish notice of its final action in the Federal Register.

Dated: April 2, 2015.
Angela Somma,
Chief, Endangered Species Division, Office of Protected Resources, National Marine Fisheries Service.

[FR Doc. 2015-07945 Filed 4-7-15; 8:45 am]

BILLING CODE 3510-22-P